DEPARTMENT OF DEFENSE

Office of the Secretary

[Docket ID: DoD-2022-OS-0080]

Submission for OMB Review; Comment Request

AGENCY: Office of the Under Secretary of Defense for Personnel and Readiness, Department of Defense (DoD).

ACTION: Emergency 1-day information collection notice.

SUMMARY: Consistent with the Paperwork Reduction Act of 1995 and its implementing regulations, this document provides notice that DoD is submitting an Information Collection Request to the Office of Management and Budget (OMB) to authorize the members of the Internal Review Team to collect information about racial disparities in the investigative and military justice systems of the DoD via focus groups with officers, noncommissioned officers, and enlisted personnel of each of the Military Services who are currently serving in military leadership positions (or who have served in such positions within the last 365 days). DoD requests emergency processing and OMB authorization to collect the information after publication of this notice for a period of six months.

DATES: Comments must be received by July 8, 2022.

ADDRESSES: The Department has requested emergency processing from OMB for this information collection request by 1 day after publication of this notice. Interested parties can access the supporting materials and collection instrument as well as submit comments and recommendations to OMB at www.reginfo.gov/public/do/PRAMain. Find this particular information collection by selecting “Currently under 1-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The Deputy Secretary of Defense directed the establishment of the Internal Review Team (IRT) on Racial Disparities in the Investigative and Military Justice Systems to identify and address the root causes of racial disparities in the DoD investigative and military justice systems. The review will provide actionable recommendations the Department can implement or establish to improve strategies, programs, policies, processes, and resources to address these disparities. The IRT comprises General Officers and members of the civilian Senior Executive Service who, with the support of subject matter experts, will focus their full-time efforts on this review. The IRT commenced its work on June 1, 2022, and is charged to provide its findings and recommendation to the DSD not later than August 24, 2022. Consideration of the role of military leaders in the Department's investigative and military justice process is a key component of the IRT's review. As a result of this information collection, the IRT will have access to a body of qualitative information provided by military leaders (including military officers, noncommissioned officers, and enlisted personnel) regarding their personal experiences in addressing Service member misconduct and performance matters. This information will assist the IRT in identifying themes, trends, and vignettes that illustrate how the actions and decisions of military leaders affect whether and how a subordinate Service member will become involved in the investigative or military justice systems and will inform IRT recommendations to address the root causes of racial disparities in those systems.

Title; Associated Form; and OMB Number: Department of Defense Internal Review Team on Racial Disparities in the Investigative and Military Justice Systems; OMB Control Number 0704-RTRD.

Type of Request: Emergency.

Number of Respondents: 480.

Responses per Respondent: 1.

Annual Responses: 480.

Average Burden per Response: 2 hours.

Annual Burden Hours: 960 hours.

Affected Public: Individuals or households.

Frequency: Once.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: July 1, 2022.
Aaron T. Siegel,
Alternate OSD Federal Register Liaison Officer, Department of Defense.

[FR Doc. 2022-14487 Filed 7-6-22; 8:45 am]

BILLING CODE 5001-06-P